DEPARTMENT OF EDUCATION

[CFDA No. 84.306S]

Office of Educational Research and Improvement; The Comprehensive School Reform Research Grant Competition; Notice Inviting Applications for New Awards for Fiscal Year (FY) 2000

Purpose of Program: The purpose of this program is to expand understanding of the full dimensions of school reform through rigorous investigation of the large-scale implementation of research-based comprehensive school reform models as a strategy for increasing student achievement.

For FY 2000 the competition for new awards focuses on projects designed to meet the priorities identified in the PRIORITIES section of this application notice.

Eligible Applicants: Institutions of higher education; State and local education agencies; public and private organizations, institutions, and agencies; and individuals.

Applications Available: May 12, 2000 for hardcopies. Also available by Web site (http://www.ed.gov/GrantApps/) on the date of publication of this notice.

Deadline for Transmittal of Applications: June 22, 2000.

Estimated Available Funds: Up to $5 million.

Estimated Size of Awards: The size of the awards will be commensurate with the nature and scope of the proposed work.

Note: The Department is not bound by any estimates in this notice.

Budget Period: 12-month period.

Project Period: Up to 36 months, with the exception of large-scale longitudinal field studies that may require 5 years to collect and analyze sufficient student or school outcome data.

Page Limits: The application must include six sections: title page form, research narrative, management plan, biographical sketches for principal investigators and other key personnel, budget summary form with budget narrative, and statement of equitable access (GEPA 427). The research narrative is limited to 50 pages, the management plan is limited to 5 pages, and biographical sketches are limited to 3 pages each, using 8½ x 11 inch paper with printing on only one side. Appendix materials should not be submitted. Pages in excess of these limitations will be removed unread. We strongly encourage applicants to use double-spacing, a 12-point font, and 1-inch margins. Reviewers are able to conduct the highest quality review when applications are concise and easy to read, with pages consecutively numbered.

Applicable Statutes and Regulations: (a) Statutes: This grant competition is authorized by P.L. 106-113, the Department of Education Appropriations Act, 2000 and by OERI's authorizing statute at 20 U.S.C. 6031. (b) Regulations: (1) The Education Department General Administrative Regulations (EDGAR) in 34 CFR Parts 74, 75, 77, 78, 80, 81, 82, 84, 86 (Part 86 applies only to Institutions of Higher Education), 97, 98 and 99; and (2) 34 CFR Part 700.

SUPPLEMENTARY INFORMATION: This research grant competition combines elements of both research and evaluation of comprehensive school reform. The Office of Educational Research and Improvement (OERI) expects that the knowledge gained from this work will provide the field with findings about specific models in promoting student achievement and enhance our understanding of how model developers and staff in schools can more effectively work together to improve student achievement. In addition, it should contribute to our overall understanding of how to increase student achievement and our continuing efforts to refine and improve education reform strategies.

Currently, very few comprehensive school reform models have been rigorously evaluated to determine their effectiveness. States, districts, schools, and the research community all would greatly benefit from additional rigorous evaluation of the various models. Equally important is additional information about how various model characteristics (e.g., prescriptiveness, professional development strategy, and curriculum requirements) are likely to achieve success in schools with differing student populations, capacities, and needs.

This work should build on the growing awareness that comprehensive school reform as a strategy for improved student achievement will depend not only on the model being implemented, but also on the context and conditions that exist in classrooms, schools, and districts. What works or does not work in a classroom, school or district can be a function of a variety of factors and supporting conditions such as financial resources, teacher quality, district and school-level leadership, and collaborative strategies employed by model developers, districts, schools, and external technical assistance providers. In addition, the success or effectiveness of a model may be related to the needs of special populations including limited English proficient students or special education students.

OERI seeks rigorous research and evaluation designs that focus explicitly on comprehensive school reform's role in increasing student learning and achievement. The studies must contribute in a significant and cumulative way to extant research on comprehensive school reform; and produce findings that are sound, relevant, timely, and useful to practitioners and policymakers. Applicants should demonstrate understanding of research in progress, as well as plans for evaluations of this research. Research questions should be informed by the needs of practitioners and policymakers involved in comprehensive school reform initiatives and should be framed in ways that are likely to increase the utility of the findings ultimately produced. In addition, study designs should include mechanisms to share emerging findings with the field, as appropriate. The designs should also enable other interested researchers to conduct further data analyses, replication, verification and refinement of findings, and improvement of measurement procedures.

We encourage collaboration in the conduct of research. Proposal teams should reflect synergistic collaborations among model developers, researchers, practitioners, and others likely to produce relevant and actionable findings for educators and policymakers. We encourage research organizations to collaborate with groups and institutions historically underrepresented in education research, such as Historically Black Colleges and Universities, Hispanic-Serving Institutions, and Tribal Colleges and Universities.

OERI cautions that this research grant program is not intended to support model development or improvement efforts in individual schools or districts, but rather to support research efforts resulting in findings that apply to comprehensive school reform strategies for many schools in various communities, districts and states.

Type of Awards

OERI anticipates that research designed to address one or more of these priorities may require large studies. For some projects, such as large-scale longitudinal studies, closer relationships with grantees than those typically afforded by discretionary grants may be appropriate. OERI therefore expects that some studies will be awarded cooperative agreements rather than discretionary grants, as provided for in EDGAR, at 34 CFR 75.200.

OERI is interested in conducting research about the capacity of already developed comprehensive school reform models to increase student achievement in large numbers of schools outside the original development and field test sites. As previously noted, we will not fund the development of models or provide support simply to implement and/or evaluate a specific program in a specific site.

Priorities

For purposes of this competition, an externally developed, research-based comprehensive school reform model is defined as follows: (1) It includes an integrated set of supportive materials, frameworks or guidelines, and the capacity to provide implementation assistance to schools. (2) It supports all systems within a school—organization, instruction, professional development, and management. (3) All of the school's classrooms are actively engaged in and accountable for the implementation of a common, articulated strategy to improve teaching and learning for all students in the school. (4) The components are grounded in research on effective practice. (5) It has been developed and tested in one set of schools and has demonstrated capacity to serve other schools. (6) There is some evidence of the effectiveness of the model in increasing student achievement.

Absolute Priority

OERI has identified three research questions as being critical to understanding the full dimensions of the large-scale implementation of externally developed research-based comprehensive school reform models as a strategy for increasing student achievement. This competition focuses on research projects designed to meet the following absolute priority:

Conduct studies that address one or more of the following research questions:

(1) How effective are specific externally developed, research-based comprehensive school reform models in improving the achievement of all students?

(2) How are model characteristics related to success of model implementation and improvement in teaching and learning in specific types of settings and with specific types of students?

(3) What supporting conditions and strategies are necessary to effectively implement and sustain comprehensive school reform models in schools and school districts?

Under 34 CFR 75.105(c)(3) we consider only applications that meet this priority.

Competitive Priority

The Secretary gives competitive preference priority to applications that address research question (1) under the absolute priority, in addition to addressing one or both of the other research questions in a coherent and integrated design. OERI considers research question (1) to be central to the proposed work. OERI believes studies designed to address question (1), and one or both of the other research questions will increase the rigor and robustness of school reform research and evaluation. In addition, study designs that link elements of research questions (2) and/or (3) with research question (1) will be more useful to model developers, policymakers, and practitioners.

Under 34 CFR 75.105(c)(2)(ii), OERI will select an application that meets the competitive priority over an application of comparable merit that does not meet the priority.

A principal investigator may submit only one proposal and may collaborate in one other proposal as a co-investigator. Group and collaborative proposals involving more than one institution must be submitted as a single administrative package from one of the institutions involved. Principal investigators will be required to meet at least twice each year with agency staff, consultants, and other OERI grantees and contractors for the purpose of expanding collaborative efforts within this field of research. OERI anticipates the possibility of funding two or more proposals that address the same or similar themes, topics or issues. OERI provides opportunities for grantees to inform each other's work by discussing common challenges, methodological issues, and ways to maximize the impact of this program on student achievement for all students. Principal investigators will also be required to help identify crosscutting research issues, and to work together to better inform other researchers, practitioners, and policymakers of emerging findings.

Depending upon the type of research proposed, OERI might require some common study design elements. Investigators may be asked to develop a core of common research questions, outcome measures, instruments, or data analysis procedures so that study findings are comparable.

Waiver of Proposed Rulemaking

In accordance with the Administrative Procedure Act (5 U.S.C. 553), it is the practice of the Department to offer interested parties the opportunity to comment on proposed priorities that are not taken directly from statute. Ordinarily, this practice would have applied to the priorities in this notice. Section 437(d)(1) of the General Education Provisions Act (GEPA), 20 U.S.C. l232(d)(1), however, exempts rules that apply to the first competition under a new or substantially revised program from this requirement.

The conference agreement for the FY 2000 appropriation for OERI's national research institutes includes $20,000,000 for “current and expanded comprehensive school reform research and development.” (P.L. 106-113, the Department of Education Appropriations Act, 2000.) Of that sum, approximately $15 million will support continuation of the current activities (contracts resulting from the FY 1999 design competition for new models for comprehensive school reform at the middle and high school level). An estimated $5 million will be used for the discretionary grants or cooperative agreements that are the subject matter of this competition. This expanded program of research and development will focus on studies addressing the student achievement effects of various comprehensive school reform models.

Therefore, the Assistant Secretary of OERI, in accordance with section 437(d)(1) of GEPA, to ensure timely awards, has decided to forego public comment with respect to the priorities. The priorities will apply only to the FY 2000 grant competition.

FOR APPLICATIONS CONTACT: Electronic Copy. Applications will be available on the World Wide Web at the following sites:

http://www.ed.gov/offices/OERI/csrrdp.html

http://www.ed.gov/GrantApps/

Hard Copy. Hard copies will be available after May 12, 2000 from the Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site:

http://www.ed.gov/pubs/edpubs.html

or you may contact ED Pubs at its E-mail address:

edpubs@inet.ed.gov

If you request an application from ED Pubs, be sure to identify this competition as follows: CFDA Number 84.306S.

FOR FURTHER INFORMATION CONTACT: Cheryl Kane, U.S. Department of Education, 555 New Jersey Avenue, NW., room 604B, Washington, DC 20202-5530. Telephone: (202) 208-2991. E-mail: cheryl kane@ed.gov or D. Hollinger Martinez, U.S. Department of Education, 555 New Jersey Ave, NW., room 610C, Washington, DC 20208-5521. Telephone: (202) 219-2239. E-mail: debra_hollinger_martinez@ed.gov. If you use a telecommunications device for the deaf (TDD), you may call the Federal Information Relay Service (FIRS) at 1-800-877-8339.

Individuals with disabilities may obtain this document in an alternative format (e.g., Braille, large print, audiotape, or computer diskette) on request by contacting either of the individuals under FOR FURTHER INFORMATION CONTACT.

Individuals with disabilities may obtain a copy of the application package in an alternative format by contacting that person. However, the Department is not able to reproduce in an alternative format the standard forms included in the application package.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 6031.

C. Kent McGuire,
Assistant Secretary for Educational Research and Improvement.

[FR Doc. 00-9932 Filed 4-19-00; 8:45 am]

BILLING CODE 4000-01-U